DEPARTMENT OF JUSTICE

[OMB Number 1140-0002]

Agency Information Collection Activities; Proposed eCollection eComments Requested; Revision of a Previously Approved Collection; Application for Restoration of Firearms Privileges—ATF Form 3210.1

AGENCY: Bureau of Alcohol, Tobacco, Firearms and Explosives, Department of Justice.

ACTION: 60-Day notice.

SUMMARY: The Department of Justice (DOJ), Bureau of Alcohol, Tobacco, Firearms and Explosives (ATF), will be submitting the following information collection request to the Office of Management and Budget (OMB) for review and approval in accordance with the Paperwork Reduction Act of 1995.

DATES: Comments are encouraged and will be accepted for 60 days until September 5, 2023

FOR FURTHER INFORMATION CONTACT: If you have additional comments especially on the estimated public burden or associated response time, suggestions, or need a copy of the proposed information collection instrument with instructions or additional information, contact: Laura O'Lena, Explosives Enforcement Branch, either by mail at 3750 Corporal Road, Huntsville, AL 35898, by email at FROD@atf.gov or telephone at 256-261-7640.

SUPPLEMENTARY INFORMATION: Written comments and suggestions from the public and affected agencies concerning the proposed collection of information are encouraged. Your comments should address one or more of the following four points:

—Evaluate whether the proposed collection of information is necessary for the proper performance of the functions of the Bureau of Justice Statistics, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Abstract: The information requested on Application for Restoration of Firearms Privileges—ATF Form 3210.1, fulfills the requirements of 18 U.S.C. chapter 44. Under Federal law, individuals prohibited from purchasing, possessing, receiving, or transporting firearms are permitted to apply for restoration of their firearms privileges. Currently, only corporations may apply for relief as Congress has not appropriated funds for individuals who are prohibited. Information Collection (IC) OMB 1140-0002 is being revised to change the name of the form to “Application for Relief from Federal Firearms Disabilities” to reflect the process characterized in U.S.C. 925(c) and its implementing regulations at 27 CFR 478.144.

Overview of This Information Collection

1. Type of Information Collection: Revision of a previously approved collection.

2. The Title of the Form/Collection: Application for Restoration of Firearms Privileges.

3. The agency form number, if any, and the applicable component of the Department sponsoring the collection:

Form number: ATF Form 3210.1.

Component: Bureau of Alcohol, Tobacco, Firearms and Explosives, U.S. Department of Justice.

4. Affected public who will be asked or required to respond, as well as the obligation to respond:

Affected Public: Private Sector—business or other for-profit.

The obligation to respond is required to obtain or retain a benefit under 18 U.S.C. chapter 44.

5. An estimate of the total number of respondents and the amount of time estimated for an average respondent to respond: An estimated 10 respondents will utilize the form annually, and it will take each respondent approximately 30 minutes to complete their responses.

6. An estimate of the total annual burden (in hours) associated with the collection: The estimated annual public burden associated with this collection is 5 hours, which is equal to 10 (total respondents) * 1 (# of response per respondent) * .5 (30 minutes or the time to complete each response).

7. An estimate of the total annual cost burden associated with the collection, if applicable: Although postage costs increased from $0.55 per respondent during 2020 to $0.63 currently, the total public cost burden is $6.

Total Burden Hours
Activity | Number of respondents | Frequency | Total annual responses | Time per response (min.) | Total annual burden (hours)
ATF Form 3210.1 | 10 | 1/annually | 10 | 30 | 5

If additional information is required contact: John Carlson, Department Clearance Officer, United States Department of Justice, Justice Management Division, Policy and Planning Staff, Two Constitution Square, 145 N Street NE, 4W-218, Washington, DC.

Dated: June 29, 2023.
John Carlson,
Department Clearance Officer for PRA, U.S. Department of Justice.

[FR Doc. 2023-14271 Filed 7-5-23; 8:45 am]

BILLING CODE 4410-FY-P